DEPARTMENT OF THE INTERIOR

National Park Service

Notice of Inventory Completion: Texas Parks and Wildlife Department, Austin, TX

AGENCY: National Park Service, Interior.

ACTION: Notice.

Notice is here given in accordance with the Native American Graves Protection and Repatriation Act (NAGPRA), 25 U.S.C. 3003, of the completion of an inventory of human remains and associated funerary objects in the possession of Texas Parks and Wildlife Department, Austin, TX. The human remains and associated funerary objects were removed from Lake Quitman, Wood County, TX.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by Texas Parks and Wildlife Department professional staff in consultation with representatives of the Caddo Nation of Oklahoma.

In the 1960s, human remains representing a minimum of one individual were removed from a known Caddo cemetery site (41WD60), at the Quitman Lake Dam area in Wood County, TX, by person(s) unknown. At some point thereafter, the collection came into the possession of the Wood County Commissioners Court. On January 14, 1976, the Wood County Commissioners Court donated the collection to the Texas Parks and Wildlife Department. No known individual was identified. The 22 associated funerary objects are 19 ceramic vessels, 2 arrow points, and a group of ceramic sherds (approximately 2,249).

The Caddo Indians historically occupied northeast Texas, northwest Louisiana, southwest Arkansas, and southeast Oklahoma. The Caddo have a long history in northeast Texas, with the earliest identifiable Caddo sites dating to around A.D. 800, and developed directly out of the Woodland period populations of this region. The Caddo Indians were forcibly removed from Texas in the 19th century.

On July 6 and 7, 2005, Texas Parks and Wildlife Department archeologists and Caddo Nation representatives made an assessment of the human remains and associated funerary objects and found the human remains and associated funerary objects are affiliated with the Caddo. Aside from one untyped vessel, the complete vessels in this collection have been identified as LaRue Neck Banded (n=1), Womack Engraved (n=1), McKinney Plain (n=2), and Ripley Engraved (n=14), each of which are associated with the Late Caddo Period in northeast Texas. Specifically, LaRue Neck Banded ceramics have been dated to A.D.1430-1680. Ripley Engraved ceramics date to A.D. 1430-1680 and are typical of the Titus Phase in northeast Texas. Perttula (2004:401- 404) identifies Ripley Engraved as a common ceramic in Titus Phase burials and since these are complete vessels (although in some cases reconstructed) lends itself to this interpretation. LaRue Neck Banded ceramics are generally considered utilitarian vessels, although better examples of this ceramic type may have been traded. Although LaRue Neck Banded and McKinney Plain ceramics are not specifically singled out as mortuary items, their being relatively intact and removed from what has been identified as a Caddo cemetery indicate that they were intentionally interred, probably as a mortuary offering.

Officials of the Texas Parks and Wildlife Department have determined that, pursuant to 25 U.S.C. 3001 (9-10), the human remains described above represent the physical remains of at least one individual of Native American ancestry. Officials of the Texas Parks and Wildlife Department also have determined that, pursuant to 25 U.S.C. 3001 (3)(A), the 22 objects described above are reasonably believed to have been placed with or near individual human remains at the time of death or later as part of the death rite or ceremony. Lastly, officials of the Texas Parks and Wildlife Department have determined that, pursuant to 25 U.S.C. 3001 (2), there is a relationship of shared group identity that can be reasonably traced between the Native American human remains and associated funerary objects and the Caddo Nation of Oklahoma.

Representatives of any other Indian tribe that believes itself to be culturally affiliated with the human remains and associated funerary objects should contact Aina Dodge, Texas Parks and Wildlife Department, 4200 Smith School Road, Austin, TX 78744, telephone (512) 389-4876, before November 6, 2008. Repatriation of the human remains and associated funerary objects to the Caddo Nation of Oklahoma may proceed after that date if no additional claimants come forward.

Texas Parks and Wildlife Department is responsible for notifying the Caddo Nation of Oklahoma that this notice has been published.

Dated: September 10, 2008
Sherry Hutt,
Manager, National NAGPRA Program.

[FR Doc. E8-23680 Filed 10-6-08; 8:45 am]

BILLING CODE 4312-50-S